DEPARTMENT OF THE INTERIOR

Bureau of Land Management

[LLESJ02400-L16100000-DU0000-223L1109AF]

Notice of Availability of the Draft Resource Management Plan Amendment and Associated Environmental Assessment for the 1995 Florida Resource Management Plan

AGENCY: Bureau of Land Management, Interior.

ACTION: Notice of availability; request for public comment.

SUMMARY: In accordance with the National Environmental Policy Act of 1969, as amended (NEPA), and the Federal Land Policy and Management Act of 1976, as amended, the Bureau of Land Management (BLM) has prepared a Draft Resource Management Plan (RMP) Amendment and Environmental Assessment (EA) for the 1995 Florida RMP for the Jupiter Inlet Lighthouse Outstanding Natural Area (ONA). This notice announces a 60-day comment period on the Draft RMP Amendment, EA, unsigned finding of no significant impact (FONSI), and the BLM's proposed area of critical environmental concern (ACEC).

DATES: Your comments on the Draft RMP Amendment and EA must be received by the BLM by January 9, 2023 or 15 calendar days after the last public meeting, whichever is later.

Your comments on the BLM's proposed ACEC must be received by the BLM by January 9, 2023.

The BLM will be holding two public meetings on the following dates at the following locations:

• November 29, 2022 6 p.m. EST, Virtual via Zoom. Registration is required. To register in advance for this webinar, visit: https://blm.zoomgov.com/webinar/register/WN_g28o8mgJQu61-NUSkeTLLw.

• December 15, 2022 6 p.m. EST, Virtual via Zoom. Registration is required. To register in advance for this webinar, visit: https://blm.zoomgov.com/webinar/register/WN_bpCJIDWnQCS5HcQyytVVUQ.

ADDRESSES: The Draft RMP Amendment and EA, including information about the proposed ACEC, are available for review on the BLM ePlanning project website at https://eplanning.blm.gov/eplanning-ui/project/2002316/510.

Written comments related to the Draft RMP Amendment, EA or ACEC proposal for the 1995 Florida RMP may be submitted by any of the following methods:

• Florida RMP Amendment ePlanning Website: https://eplanning.blm.gov/eplanning-ui/project/2002316/510;

• Mail: Program Manager, Jupiter Inlet Lighthouse Outstanding Natural Area, Bureau of Land Management, 600 State Road 707, Unit B, Jupiter, Florida 33469; or

• Email: BLM_ES_JupiterONA@blm.gov.

Documents pertinent to this proposal may be examined at the Jupiter Inlet Lighthouse Outstanding Natural Area.

FOR FURTHER INFORMATION CONTACT: Peter DeWitt, Program Manager; telephone: (561) 295-5955; address: Jupiter Inlet Lighthouse Outstanding Natural Area, Bureau of Land Management, 600 State Road 707, Unit B, Jupiter, Florida 33469; email: BLM_ES_JupiterONA@blm.gov. Individuals in the United States who are deaf, deafblind, hard of hearing, or have a speech disability may dial 711 (TTY, TDD, or TeleBraille) to access telecommunications relay services for contacting Mr. DeWitt's last name. Individuals outside the United States should use the relay services offered within their country to make international calls to the point-of-contact in the United States.

SUPPLEMENTARY INFORMATION: This document provides notice that the BLM Eastern States State Director has prepared a Draft RMP Amendment and EA and is announcing the comment period on the Draft RMP Amendment and EA, including BLM's proposed ACEC. The RMP amendment would change the existing 1995 Florida RMP.

The planning area is located in Palm Beach County, Florida, and encompasses approximately 126 acres of public land.

The BLM has prepared the Draft RMP Amendment for the Jupiter Inlet Lighthouse ONA and associated EA to evaluate management strategies for resources, resource uses, and special designations within the Jupiter Inlet Lighthouse ONA. The Draft Florida RMP Amendment for the Jupiter Inlet Lighthouse ONA will determine management for approximately 120 acres of BLM-administered surface land (Lots 15, 17, 19, and 22); lands expected to be returned to the BLM when the United States Coast Guard relinquishes its withdrawal (Lots 16 and 21); land patented to the Town of Jupiter that, if ever returned, would fall under the jurisdiction of the BLM (Lot 20); and a 1.08-acre easement granted to the BLM by the State of Florida.

The BLM, as directed by the Consolidated Natural Resources Act of 2008 (CNRA), manages the ONA in coordination with local partners to protect, preserve, and enhance the unique and nationally important historical, natural, cultural, scientific, educational, scenic, and recreational values at the ONA, with an emphasis on restoring native ecological systems. Issues considered in the Draft Florida RMP Amendment and EA are conserving and protecting ONA resources and objects or values including special status species, native ecosystems, visual and scenic values; maintaining ONA values and settings; and managing for sustainable recreation, visitor growth, and visitor enjoyment. The Draft Florida RMP Amendment and EA also considers decisions regarding a special recreation management area (SRMA) and associated recreation management zones (RMZs), land use authorizations, and an ACEC.

The formal public scoping process for the Draft Florida RMP Amendment and EA began January 21, 2022, with the publication of a Notice of Intent in the Federal Register (87 FR 3328). The BLM held one virtual scoping meeting on February 9, 2022. The BLM used scoping comments to help identify planning issues and frame the scope of analysis in the Draft Florida RMP Amendment and EA. The BLM also used the scoping process to introduce the public to the planning criteria and preliminary alternatives to obtain feedback on the alternatives and the analysis strategy.

Purpose and Need

The BLM is seeking to amend the 1995 Florida RMP to provide guidance for the legislatively mandated uses and protections of the Jupiter Inlet Lighthouse ONA. The need for the amendment is to update special designations and provide land use planning-level direction for recreation programs and land within the ONA that the BLM acquired after designation that reflects the evolving long-term management needs for protection, conservation, and enhancement of the unique and nationally important values of the site consistent with the ONA's designating language (CNRA) and Resource Management Planning regulations at 43 CFR 1610. The purpose of the amendment is to establish management direction for BLM-administered land and resources, as described below.

Land Management: The purpose for the action includes considering the availability of land within the ONA for land use authorizations, such as commercial leases, and establishing management direction for land within the ONA that the BLM acquired after the U.S. Coast Guard completed a withdrawal relinquishment to the BLM.

Recreation Management: The purpose for the action includes providing for recreation opportunities in a manner that is consistent with the ONA's designating language by exploring the establishment of a recreation management area, RMZs, and an area suitable for an Interpretive/Visitor Center.

ACEC: The purpose for the action includes determining whether special management attention provided under an ACEC designation is warranted for these areas in light of the congressional designation of the ONA.

Alternatives Including the Preferred Alternative

The BLM has analyzed three alternatives in detail, including the No Action Alternative (Alternative A) and two action alternatives (Alternatives B and C). Alternative A continues existing management in the planning area, as reflected in decisions from the 1995 Florida RMP. However, Alternative A does not reflect management direction in the CNRA and does not include decisions for all areas that are currently managed by the BLM. Under Alternative A, Lot 15 would remain designated as the Jupiter Inlet tract ACEC (51.1 acres) and Lots 15 and 20 would be available for conveyance under the Recreation and Public Purposes Act or available for cooperative management with other government and/or private organizations. Alternative B focuses on updating the management objective to include conservation and consideration of the seven core resources and values for which the ONA was designated. In addition, Alternative B would remove the ACEC designation from Lot 15, designate an SRMA and associated RMZs, allow lands acquired to be managed in the same way as adjacent lands, manage temporary land use authorizations, and disallow long-term leasing of the site. Alternative C would expand the Jupiter Inlet tract ACEC to 87.5 acres, limit temporary land use authorizations, and allow long-term leasing. Similar to Alternative B, Alternative C would also set a management objective to include conservation and consideration of the seven core resources and values for which the ONA was designated and designate an SRMA and associated RMZs. The BLM did not identify any additional alternatives needing consideration.

The State Director has identified Alternative B as the preferred alternative. Alternative B was found to best meet the State Director's planning guidance and, therefore, was selected as the preferred alternative because it provides a balanced management approach that meets the intent of the CNRA by addressing public access, recreation, and visitor services, while providing equitable opportunities for the appropriate use of the ONA. In addition, an ACEC designation is not necessary or appropriate because management attention provided under the congressional designation is adequate to protect the resources and values.

ACECs

The preferred alternative would not propose the following potential ACECs for designation:

• the existing Jupiter Inlet tract ACEC in Lot 15 (51.1 acres)

• the expanded Jupiter Inlet tract ACEC to encompass Lots 15, 16, 17, and 19 (87.5 acres).

Comments may be submitted using any of the methods listed in the ADDRESSES section earlier.

Schedule for the Decision-Making Process

The BLM will provide additional opportunities for public participation consistent with the NEPA and land use planning processes, including a 30-day public protest period and a 60-day Governor's consistency review on the Proposed RMP Amendment. The Proposed RMP Amendment and EA is anticipated to be available for public protest in March 2023 with an Approved RMP Amendment and Decision Record in June 2023.

See the DATES section for the dates and locations of scheduled meetings. The date(s) and location(s) of any additional meetings will be announced at least 15 days in advance through local news media, newspapers, social media channels, and the BLM website at: www.blm.gov/JupiterONA, and the ePlanning project page at https://eplanning.blm.gov/eplanning-ui/project/2002316/510.

The BLM will continue to consult with Indian Tribal Nations on a government-to-government basis in accordance with Executive Order 13175, BLM MS 1780, and other Departmental policies. Tribal concerns, including impacts on Indian trust assets and potential impacts to cultural resources, will be given due consideration. Consultation will continue on an individual basis with interested Tribal Nations.

Before including your address, phone number, email address, or other personal identifying information in your comment, you should be aware that your entire comment—including your personal identifying information—may be made publicly available at any time. While you can ask us in your comment to withhold your personal identifying information from public review, we cannot guarantee that we will be able to do so.

(Authority: 43 CFR 1610.7-2)

Mitchell Leverette,
State Director.

[FR Doc. 2022-24467 Filed 11-8-22; 8:45 am]

BILLING CODE 4310-GJ-P